OFFICE OF THE UNITED STATES TRADE REPRESENTATIVE

Invitation for Applications for Inclusion on the Dispute Settlement Rosters for U.S.-Panama Trade Promotion Agreement

AGENCY: Office of the United States Trade Representative (“USTR”).

ACTION: Invitation for applications.

SUMMARY: The United States-Panama Trade Promotion Agreement (the “Agreement”) calls for the Parties to establish four rosters of individuals that would be available to serve as panelists in dispute settlement proceedings arising under the Agreement. A general roster is required to be established under Chapter Twenty (Dispute Settlement). Chapter Twelve (Financial Services), Chapter Sixteen (Labor), and Chapter Seventeen (Environment) require the establishment of separate rosters for disputes arising under those chapters. USTR is inviting interested persons to apply to be on any of the rosters under the Agreement, as indicated below.

DATES: Applications should be received no later than March 14, 2014 to be assured of consideration.

ADDRESSES: Applications should be submitted electronically to www.regulations.gov, docket number USTR-2014-0002. If you are unable to submit an application using www.regulations.gov, please contact Sandy McKinzy at (202) 395-9483 to arrange for an alternative method of transmission.

FOR FURTHER INFORMATION CONTACT: For information regarding the form of the application, contact Sandy McKinzy, Legal Technician, USTR Office of Monitoring and Enforcement, at (202) 395-3582. For other inquiries, contact Greta Peisch, Assistant General Counsel, at (202) 395-3150.

SUPPLEMENTARY INFORMATION: USTR is seeking applications from interested persons to serve on one or more of the rosters under the Agreement. The details for how to apply are provided below as is a short description of the rosters. In response to this notice, USTR will accept applications from U.S. citizens and nationals of other countries.

Dispute Settlement Mechanism of the Agreement

The Agreement is a bilateral agreement in force between the United States and Panama. Chapter 20 of the Agreement sets out detailed procedures for the resolution of disputes arising under the Agreement. Dispute settlement involves three stages: (1) Consultations between the Parties to try to arrive at a mutually satisfactory resolution of the matter; (2) efforts by the Free Trade Commission, comprising cabinet-level representatives from the United States and Panama, to resolve the matter; and (3) resort to an arbitral panel to make a determination regarding the matter at issue between the Parties. The panel is composed of three individuals normally chosen by the Parties, or selected by lot, from a roster.

The Agreement requires the Parties to establish a roster of up to twenty individuals who are willing and able to serve as panelists. The roster is to include up to seven individuals who are nationals of each Party and up to six individuals who are not nationals of either Party. Individuals on the roster are appointed by agreement of the Parties for a minimum term of three years, and remain on the list until the Parties form a new roster. See Article 20.7.1 of the Agreement.

The Agreement provides for the Parties to agree on a chair and then for each party to select one panelist, normally from the roster. If the Parties are unable to agree on a chair within 15 days, the chair is selected by lot from among roster members who are not nationals of a Party. Similarly, if a Party fails to select a panelist within 15 days of selection of the chair, the panelist is selected by lot from among the roster members who are nationals of the Party. Accordingly, applications are sought from applicants who are nationals of the United States, Panama, or any non-Party country.

The text of the Agreement can be found on the USTR Web site (http://www.ustr.gov/uspanamatpa).

Criteria for Eligibility for Inclusion on the Roster

To qualify for inclusion on the roster, an applicant must: (1) Be objective, reliable, and possess sound judgment; (2) have expertise or experience in law, international trade, other matters covered by the Agreement, or the resolution of disputes arising under international trade agreements; (3) be independent of, and not be affiliated with or take instructions from, either Party; and (4) comply with a code of conduct established by the Parties.

Procedures for Selection of Members of the Rosters

An interagency committee chaired by USTR prepares a preliminary list of candidates eligible for inclusion on the rosters. After consultation with the Committee on Ways and Means of the House of Representatives and the Committee on Finance of the Senate, USTR selects the final list of individuals that the United States will nominate for inclusion on the rosters. The members of the rosters are appointed by agreement of the Parties to the Agreement.

Applications

Eligible individuals who wish to be considered for inclusion on one or more of the rosters are invited to submit applications. However, eligible individuals who have submitted a prior application for one or more lists under the Dominican Republic-Central America-United States Free Trade Agreement (“CAFTA-DR”), chapter 20 of the North American Free Trade Agreement (“NAFTA”), the United States-Peru Trade Promotion Agreement, the United States-Australia Free Trade Agreement (“USAFTA”), the United States-Colombia Trade Promotion Agreement (“USCTPA”), the United States-Korea Free Trade Agreement (“KORUS”), the United States-Morocco Free Trade Agreement (“USMFTA”), or the United States-Singapore Free Trade Agreement (“USSFTA”) in response to the Federal Register notices of January 28, 2010 (75 FR 4607) or June 25, 2012 (77 FR 37948) have the option as explained below of simply indicating that they would like their application also to include the United States-Panama TPA and submitting updates (if any) to their applications on file.

Applications must be typewritten, and should be headed “Application for Inclusion on a U.S.-Panama TPA Roster.” Applicants must specify for which of the four rosters they wish to be considered: General, Financial Services, Labor, or Environment. Applicants may specify more than one roster. Applications should include the following information, and each section of the application should be numbered as indicated:

1. Name of the applicant.

2. Business address, telephone number, fax number, and email address.

3. Citizenship(s).

4. Current employment, including title, description of responsibility, and name and address of employer.

5. Relevant education and professional training.

6. Fluency in any relevant language other than English, written and spoken.

7. Post-education employment history, including the dates and addresses of each prior position and a summary of responsibilities.

8. Relevant professional affiliations and certifications, including, if any, current bar memberships in good standing.

9. A list and copies of publications, testimony, and speeches, if any, concerning the relevant area(s) of expertise. Judges or former judges should list relevant judicial decisions. Only one copy of publications, testimony, speeches, and decisions need be submitted.

10. A list of international trade proceedings or domestic proceedings relating to international trade matters or other relevant matters in which the applicant has provided advice to a party or otherwise participated.

11. Summary of any current and past employment by, or consulting or other work for, the Government of the United States or the Government of Panama.

12. The names and nationalities of all foreign principals for whom the applicant is currently or has previously been registered pursuant to the Foreign Agents Registration Act, 22 U.S.C. 611 et seq., and the dates of all registration periods.

13. A short statement of qualifications and availability for service on dispute settlement panels under the Agreement, including information relevant to the applicant's familiarity with international trade law and relevant area(s) for the roster for which the applicant seeks to be considered, and willingness and ability to make time commitments necessary for service on panels.

14. On a separate page, the names, addresses, telephone and fax numbers of three individuals willing to provide information concerning the applicant's qualifications for service, including the applicant's character, reputation, reliability, judgment, and familiarity with the relevant area of expertise.

Prior Applicants

As indicated above, an individual who has submitted an application in response to the Federal Register notices of January 28, 2010 (75 FR 4607) or June 25, 2012 (77 FR 37948) need only indicate that the individual is interested in having their application also include the Agreement, specify under which of the two Federal Register notices the individual had previously submitted an application, and submit updates (if any) to the individual's application(s) on file.

Public Disclosure

Applications normally will not be subject to public disclosure and will not be posted publicly on www.regulations.gov. Applications may be shared with other agencies, the Committee on Ways and Means of the House of Representatives, the Committee on Finance of the Senate, and the Government of Panama for their consideration in determining whether to appoint persons to the relevant roster.

False Statements

False statements by an applicant regarding his or her personal or professional qualifications, or financial or other relevant interests that bear on the applicant's suitability for placement on a roster or appointment to a panel are subject to criminal sanctions under 18 U.S.C. 1001.

Privacy Act

The following statements are made in accordance with the Privacy Act of 1974, as amended (5 U.S.C. 552a). Provision of the information requested above is voluntary; however, failure to provide the information will preclude consideration as a candidate for inclusion on a list. This information is maintained in a system of records entitled “Dispute Settlement Panelists Roster.” Notice regarding this system of records was published in the Federal Register on November 30, 2001 (66 FR 59837). The information provided is needed, and will be used by USTR, other federal government trade policy officials concerned with dispute settlement under the Agreement, and officials of the Panama to select well-qualified individuals for inclusion on the rosters and for service on dispute settlement panels.

Daniel E. Brinza,
Senior Counsel for Dispute Settlement.

[FR Doc. 2014-01099 Filed 1-27-14; 8:45 am]

BILLING CODE 3290-F4-P